DEPARTMENT OF THE TREASURY

Office of Foreign Assets Control

Removal of an Alias of an Existing Specially Designated National Listing

AGENCY: Office of Foreign Assets Control, Treasury.

ACTION: Notice.

SUMMARY: The Treasury Department's Office of Foreign Assets Control (“OFAC”) is amending an existing Specially Designated National's listing to remove an alias.

DATES: The alias removal is effective September 10, 2010.

FOR FURTHER INFORMATION CONTACT: Assistant Director, Compliance Outreach & Implementation, Office of Foreign Assets Control, Department of the Treasury, 1500 Pennsylvania Avenue, NW. (Treasury Annex), Washington, DC 20220, Tel.: 202/622-2490.

SUPPLEMENTARY INFORMATION:

Electronic and Facsimile Availability

Additional information concerning OFAC is available from OFAC's Web site (http://www.treas.gov/ofac) or via facsimile through a 24-hour fax-on-demand service, Tel.: 202/622-0077.

Background to Removal of Alias

The Office of Foreign Assets Control is removing an alias from Steven Law's listing on the Department of the Treasury's List of Specially Designated Nationals and Blocked Persons. The entry has been amended as:

LAW, Steven (a.k.a. CHUNG, Lo Ping; a.k.a. LAW, Stephen; a.k.a. LO, Ping Han; a.k.a. LO, Ping Hau; a.k.a. LO, Ping Zhong; a.k.a. LO, Steven; a.k.a. NAING, Htun Myint; a.k.a. NAING, Tun Myint; a.k.a. NAING, U Myint), 330 Strand Rd., Latha Township, Rangoon, Burma; 61-62 Bahosi Development Housing, Wadan St., Lanmadaw Township, Rangoon, Burma; No. 124 Insein Road, Ward (9), Hlaing Township, Rangoon, Burma; 3 Shenton Way, #10-01 Shenton House, Singapore 068805, Singapore; 8A Jalan Teliti, Singapore, Singapore; DOB 16 May 1958; alt. DOB 27 Aug 1960; POB Lashio, Burma; citizen Burma; Passport 937174 (Burma) (individual) [BURMA]

Dated: September 10, 2010.
Barbara Hammerle,
Acting Director, Office of Foreign Assets Control.

[FR Doc. 2010-23157 Filed 9-15-10; 8:45 am]

BILLING CODE 4811-42-P